DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Current Population Survey—Housing Vacancy Survey.

OMB Control Number: 0607-0179.

Form Number(s): HVS-600, BC-1428, CPS-263(L).

Type of Request: Extension of a currently approved collection.

Burden Hours: 4,318.

Number of Respondents: 7,000.

Average Hours per Response: 3 minutes.

Needs and Uses: The Census Bureau requests clearance for the collection of demographic information in the Housing Vacancy Survey (HVS) beginning in July 2014. The current clearance expires June 30, 2014. The HVS has been conducted since 1956 and serves a broad array of data users.

The U.S. Census Bureau collects the HVS data for a sample of vacant housing units identified in the monthly Current Population Survey (CPS) sample. These data provide the only quarterly statistics on rental vacancy rates and home ownership rates for the United States, the four census regions, inside vs. outside metropolitan areas (MSAs), the 50 States, the District of Columbia, and the 75 largest MSAs. Private and public sector organizations use these rates extensively to gauge and analyze the housing market.

In addition, the rental vacancy rate is a component of the index of leading economic indicators published by the Department of Commerce. It is used by the Department of Housing and Urban Development (HUD), Bureau of Economic Analysis (BEA), National Association of Home Builders, Federal Reserve Board (FRB), OMB, Department of the Treasury, and the White House Council of Economic Advisers.

Policy analysts, program managers, budget analysts, and Congressional staff use data obtained from the remaining questions that do not deal specifically with the vacancy rate to advise the executive and legislative branches of government with respect to number and characteristics of units available for occupancy and the suitability of housing initiatives

The Census Bureau produces a press release, “Census Bureau Reports on Residential Vacancies and Home Ownership,” on a quarterly basis. In addition, we place the HVS data on the Internet for users to access. The Internet address for the HVS data is http://www.census.gov/housing/hvs. Several other government agencies use these data on a continuing basis. For example, the BEA uses the HVS data in calculating consumer expenditures for housing as a component of the gross domestic product; the HUD relies on the HVS data to measure the adequacy of the supply of rental and homeowner units and works with the White House in measuring homeownership for minorities. The National Association of Home Builders, the National Association of Realtors, the Federal National Mortgage Association, the FRB, the Home Loan Mortgage Corporation, and the American Federation of Labor-Congress of Industrial Organizations are among the many users in the private sector who routinely use the HVS data in making policy decisions relating to the housing market. In addition, investment firms use the HVS data to analyze market trends and for economic forecasting.

The continuation of the HVS ensures the historical continuity of a data series that began in 1956. If eliminated, both public and private organizations would not have the data to evaluate housing markets with regard to housing vacancies, the level of home ownership, and housing inventory estimates by tenure and vacancy status.

Affected Public: Individuals or households.

Frequency: Monthly.

Respondent's Obligation: Voluntary.

Legal Authority: Title 13, USC, Section 182, and Title 29, USC Section 1.

This information collection request may be viewed at www.reginfo.gov. Follow the instructions to view the Department of Commerce collections currently under review by OMB.

Written comments and recommendations for the proposed information collection should be sent within 30 days of publication of this notice to www.OIRA Submission@omb.eop.gov or fax to (202) 395-5806.

Dated: June 9, 2014.
Glenna Mickelson,
Management Analyst, Office of the Chief Information Officer.

[FR Doc. 2014-13805 Filed 6-12-14; 8:45 am]

BILLING CODE 3510-07-P